FEDERAL COMMUNICATIONS COMMISSION

[DA 00-1582 (Auction No. 32)]

AM Auction Remedial Filing Window; Notice and Filing Requirements Regarding July 31—August 4, 2000 Remedial Filing Window for AM Auction

AGENCY: Federal Communications Commission.

ACTION: Notice.

SUMMARY: This document announces an AM auction remedial filing window for corrective submissions by entities that timely filed only one of the two documents required by Commission AM auction procedures. Those entities will be permitted to supplement their prior submissions, between July 31, 2000, and August 4, 2000 (“AM Auction Remedial Window”), by filing either the previously omitted FCC Form 175 or the FCC Form 301 Section I and Tech Box of Section III-A.

DATES: The AM Auction Remedial Filing Window is between July 31, 2000, and August 4, 2000.

FOR FURTHER INFORMATION CONTACT: Kenneth Burnley, Auctions and Industry Analysis Division, Wireless Telecommunications Bureau, at (202) 418-0660; Jean Ann McGovern, Audio Services Division, Mass Media Bureau, at (202) 418-2700.

SUPPLEMENTARY INFORMATION: This is a summary of a public notice released July 14, 2000 (“AM Auction Remedial Filing Window Public Notice”). The complete text, including all attachments, of the AM Auction Remedial Filing Window Public Notice is available for inspection and copying during normal business hours in the FCC Reference Center (Room CY-A257), 445 12th Street, SW, Washington, DC. It may also be purchased from the Commission's copy contractor, International Transcription Services, Inc., (ITS, Inc.) 1231 20th Street, NW, Washington, DC 20035, (202) 857-3800. It is also available on the Commission's website at http://www.fcc.gov/wtb/auctions.

List of Attachments available at the FCC:

Attachment A—Pending FCC Form 301 Application—No Record of a Timely Filed FCC Form 175; FCC Form 175 Filed—No Record of Timely Filed Required FCC Form 301 Sections; and Required FCC Form 301 Sections Filed Between January 21, and February 1, 2000—No Record of a Timely Filed Associated FCC Form 175

Attachment B—Electronic Filing and Review of the FCC Form 175

Attachment C—Accessing the FCC Network To File FCC Form 175

I. General Information

A. Introduction

1. On July 14, 2000, the Mass Media Bureau (“MMB”) and the Wireless Telecommunications Bureau (“WTB”) (collectively, the “Bureaus”) released the AM Auction Remedial Filing Window Public Notice, which announces an AM auction remedial filing window for corrective submissions by entities that timely filed only one of the two documents required under AM auction procedures. Those entities will be permitted to supplement their prior submissions, between July 31, 2000, and August 4, 2000 (“AM Auction Remedial Window”), by filing either the previously omitted FCC Form 175 or the FCC Form 301 Section I and Tech Box of Section III-A.

2. Background. On November 19, 1999, a public notice (“January Filing Window Public Notice”) was released announcing an AM auction filing window for applications for new AM stations and major modifications to authorized AM facilities. The January Filing Window Public Notice required that entities interested in participating in the AM auction electronically file a FCC Form 175 (short-form application) during the January Filing Window and, concurrently, file a FCC Form 301 Section I and the Tech Box from Section III-A, if they had not done so previously. The Bureaus cautioned that the failure of any entity to file all required information on a timely basis would preclude that entity's participation in the AM auction proceeding. Nonetheless, the Commission received ten filings, listed in Attachment A of the AM Auction Remedial Filing Window Public Notice, that did not comply with the filing requirements set forth in the January Filing Window Public Notice.

3. AM Auction Remedial Window. Generally, participation in prior auctions conducted by the Bureaus required the filing of only FCC Form 175. The AM auction (“Auction No. 32”) filing window is the first to employ filing procedures which require the concurrent filing of FCC Form 175 and the engineering data contained in FCC Form 301. The Bureaus recognize that potential applicants may have experienced some confusion in the Bureaus' initial use of the two-part procedure. The purpose of the AM Auction Remedial Window is to allow those entities that only filed FCC Form 175 or the required engineering data on FCC Form 301 a short period of time to correct their filings to comply with our rules. We caution that this is a unique opportunity offered by the Bureaus. We do not anticipate offering such an opportunity in future auction proceedings.

4. Only entities identified in Attachment A of the AM Auction Remedial Filing Window Public Notice may make corrective submissions during the AM Auction Remedial Window. In order to be eligible to participate in Auction No. 32, those entities must correct their submissions as described below:

• If an entity has a pending FCC Form 301 application (Frozen AM Application) and did not timely file a FCC Form 175 during the January Filing Window, that entity must electronically file a FCC Form 175 by 6:00 p.m. Eastern Standard Time, August 4, 2000. Information regarding the completion and electronic filing of the FCC Form 175 is contained in the AM Auction Remedial Filing Window Public Notice.

• If an entity timely filed a FCC Form 175 during the January Filing Window and did not file the required engineering data sections of FCC Form 301, that entity must file FCC Form 301 (May 1999 version) Section I and the Tech Box of Section III-A. These sections of FCC Form 301 must be filed in triplicate with the Secretary of the Commission, 445 12th Street, SW, Washington, DC 20554. The required engineering data sections of the FCC Form 301 are due in hard copy by 7:00 p.m. Eastern Standard Time, August 4, 2000. No filing fee is required. A courtesy copy of any FCC Form 301 submission filed during the AM Auction Remedial Window should also be sent to James R. Crutchfield, Audio Services Division, Room 2-B450, at the above street address. Such entities should specify, in the cover letter accompanying the required FCC Form 301 sections or at the top of the first page of the FCC Form 301 submission, the account number of the associated pending FCC Form 175 as indicated in Attachment A to this public notice. It is not necessary for such entities to include a printed copy of their previous, electronically filed FCC Form 175 will the FCC Form 301 submission.

• If an entity filed the required FCC Form 301 engineering data or a complete FCC Form 301 during the January Filing Window and did not file an associated FCC Form 175, that entity must electronically file a FCC Form 175 by 6:00 p.m. Eastern Standard Time, August 4, 2000. Information regarding the completion and electronic filing of the FCC Form 175 is contained in the AM Auction Remedial Filing Window Public Notice.

5. Failure of any entity identified in Attachment A of the AM Auction Remedial Filing Window Public Notice to have all required forms and information timely and properly filed by August 4, 2000 will result in the dismissal of any prior submissions relating to the January Filing Window for AM applications.

6. Electronic Filing Procedures for FCC Form 175. Only the entities identified in Attachment A of the AM Auction Remedial Filing Window Public Notice that are required to complete a FCC Form 175 will be able to make corrective filings in the AM Auction Remedial Window. Each of these entities will receive via Federal Express an assigned temporary tax identification number (TIN) and password. This assigned temporary TIN and password will be required to access the FCC Form 175 submission software.

7. After the application has been submitted, the applicant will be required to write a letter to the Commission requesting a change to their TIN. The letter should contain the company name, FCC account number, assigned temporary TIN and the company's actual TIN. This letter should contain language authorize the Commission to replace the assigned temporary TIN with the company's actual TIN. This letter requesting a TIN change should be addressed to Any Zoslov, Chief, Auctions and Industry Analysis Division, Wireless Telecommunications Bureau, Federal Communications Commission, 445 12th Street, SW, Washington, DC 20554. A separate copy of the letter should be mailed to Kenneth Burnely, Auctions and Industry Analysis Division, 4-B524, Wireless Telecommunications Bureau, Federal Communications Commission, 445 12th Street, SW, Washington, DC 20554.

Federal Communications Commission.
Margaret W. Wiener,
Deputy Chief, Auctions and Industry Analysis Division.

[FR Doc. 00-18491 Filed 7-20-00; 8:45 am]

BILLING CODE 6712-01-U